DEPARTMENT OF JUSTICE

Notice of Lodging of Consent Decree Under the Comprehensive Environmental Response, Compensation, and Liability Act

Under 28 CFR 50.7, notice is hereby given that on October 16, 2001, a proposed consent decree in United States v. John Evans Sons, Inc., and Ametek, Inc., Civ. Action No. 01-5262 (E.D. Pa.) was lodged with the United States District Court for the Eastern District of Pennsylvania.

In this action, the United States is seeking injunctive relief and response costs pursuant to the Comprehensive Environmental Response, Compensation, and Liability Act (“CERCLA”), 42 U.S.C. 9601 et seq., in connection with the North Penn Area Six Superfund Site (“Site”), which consists of a number of separate parcels of property within and adjacent to the Borough of Lansdale, Montgomery County, Pennsylvania. The proposed consent decree will resolve the United States' claims against John Evans Sons, Inc., and Ametek, Inc. (“Settling Defendants”) in connection with the Site. Settling Defendants will perform part of the remedial action selected by the U.S. Environmental Protection Agency, with projected costs of $615,475.000. Settling Defendants also will reimburse the United States $79,131.25 in past response costs and will pay for future response costs. The consent decree includes covenants not to sue by the United States under section 107 of CERCLA.

The Department of Justice will receive for a period of thirty (30) days from the date of this publication comments relating to the proposed consent decree. Comments should be addressed to the Assistant Attorney General, Environmental and Natural Resources Division, PO Box 7611, U.S. Department of Justice, Washington, DC 20044-7611 and should refer to United States v. John Evans' Sons, Inc. and Ametek, Inc., D.J. Ref. 90-11-2-06024/6.

The proposed consent decree may be examined at the Office of the United States Attorney, 615 Chestnut Street, Suite 1250, Philadelphia, PA 19016, and at U.S. Environmental Protection Agency Region III, 1650 Arch Street, Philadelphia, Pennsylvania 19103. A copy of the consent decree may also be obtained by mail from the Consent Decree Library, PO Box 7611, U.S. Department of Justice, Washington, DC 20044-7611. In requesting a copy, please enclose a check in the amount of $23.00 (25 cents per page reproduction cost) payable to the U.S. Treasury.

Robert Brook,
Assistant Section Chief, Environmental Enforcement Section, Environmental and Natural Resources Division.

[FR Doc. 01-28570 Filed 11-14-01; 8:45 am]

BILLING CODE 4410-15-M